DEPARTMENT OF COMMERCE

National Oeanic and Atmospheric Administration

RIN 0648-XA318

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scientific and Statistical Committee on April 12-13, 2011 to consider actions affecting New England fisheries in the exclusive economic zone (EEZ). Recommendations from this group will be brought to the full Council for formal consideration and action, if appropriate.

DATES: This meeting will be held on Tuesday, April 12 at 10 a.m. and Wednesday, April 13, 2011 at 8:30 a.m.

ADDRESSES: Meeting address: The meeting will be held at the Hotel Providence, 139 Mathewson Street, Providence, RI 02903; telephone: (401) 861-8000; fax: (401) 861-8002.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION:

Tuesday, April 12, 2011-Wednesday, April 13, 2011

The Scientific and Statistical Committee (SSC) will peer review work completed by the Council's Skate Plan Development Team. The review is being convened on April 12, 2011 for the purpose of providing expert technical comments and advice on the following: Approve a FSV Bigelow calibration method to be used to recommend Skate Acceptable Biological Catch (ABC) specifications for 2011-2013 and to determine status; approve the calibration of FSV Bigelow catches to FSV Albatross equivalents, rather than vice versa and approve the use of a consistent set of FSV Bigelow strata to adjust biological reference points and adjust the catch/biomass medians as a basis for setting ABC.

On Wednesday, April 13, 2011, the SSC will discuss the Council's Whiting/Hake Plan Development Team's evaluation of ABC-setting options. Specifically it will provide guidance to the plan team concerning the development of ABC specifications for inclusion in Amendment 19 (small mesh multispecies component) to the Northeast Multispecies Fishery Management Plan.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: March 21, 2011.
Tracey L. Thompson,
Acting Director, Office of Sustainable Fisheries, National Marine Fisheries Service.

[FR Doc. 2011-6957 Filed 3-23-11; 8:45 am]

BILLING CODE 3510-22-P